FEDERAL TRADE COMMISSION

16 CFR Part 305

Rule Concerning Disclosures Regarding Energy Consumption and Water Use of Certain Home Appliances and Other Products Required Under the Energy Policy and Conservation Act (“Appliance Labeling Rule”)

AGENCY: Federal Trade Commission.

ACTION: Final rule.

SUMMARY: The Federal Trade Commission (“Commission”) is amending the Appliance Labeling Rule to update ranges of comparability for compact clothes washers, refrigerators, refrigerator-freezers, and freezers. In addition, the Commission announces that ranges of comparability for standard clothes washers will remain in effect until further notice. Finally, the Commission is issuing minor, technical amendments to update the definition of medium base compact fluorescent lamp and to correct a sample heat pump label in the Rule.

EFFECTIVE DATE: May 1, 2006.

FOR FURTHER INFORMATION CONTACT: Hampton Newsome, Attorney, Division of Enforcement, Federal Trade Commission, Washington, DC 20580 (202-326-2889); hnewsome@ftc.gov.

SUPPLEMENTARY INFORMATION: The Appliance Labeling Rule (“Rule”) was issued by the Commission in 1979, 44 FR 66466 (Nov. 19, 1979), in response to a directive in the Energy Policy and Conservation Act of 1975 (“EPCA”).¹ The Rule covers several categories of major household appliances including refrigerators, refrigerator-freezers, and freezers.

¹ 42 U.S.C. 6294. The statute also requires the Department of Energy (“DOE”) to develop test procedures that measure how much energy the appliances use, and to determine the representative average cost a consumer pays for the different types of energy available.

I. Background

The Rule requires manufacturers of all covered appliances to disclose specific energy consumption or efficiency information (derived from the DOE test procedures) at the point of sale in the form of an “EnergyGuide” label, in fact sheets (for some appliances), and in catalogs. The Rule requires manufacturers to include, on labels and fact sheets, an energy consumption or efficiency figure and a “range of comparability.” This range shows the highest and lowest energy consumption or efficiencies for all comparable appliance models so consumers can compare the energy consumption or efficiency of similar models. The Rule also requires manufacturers to include, on labels for some products, a secondary energy usage disclosure in the form of an estimated annual operating cost based on a specified DOE national average cost for the fuel the appliance uses.

Section 305.8(b) of the Rule requires manufacturers, after filing an initial report, to report certain information annually to the Commission.² These reports, which assist the Commission in preparing the ranges of comparability, contain the estimated annual energy consumption or energy efficiency ratings for the appliances derived from tests performed pursuant to the DOE test procedures. Because manufacturers regularly add new models to their lines, improve existing models, and discontinue others, the data base from which the ranges of comparability are calculated changes constantly. To keep the information on labels up-to-date, the Commission, therefore, publishes new ranges if the upper or lower limits of the ranges have changed by more than 15%. Otherwise, the Commission publishes a statement that the prior ranges remain in effect for the next year.

² Reports for refrigerators, refrigerator-freezers, and freezers are due August 1. Reports for clothes washers are due October 1.

II. 2005 Refrigerator and Clothes Washer Data

The Commission has analyzed the annual submissions of data for clothes washers, refrigerators, refrigerator-freezers, and freezers. Analysis of the refrigerators, refrigerator-freezers, and freezers submissions indicates that the ranges for these products have changed significantly.³ Therefore, the Commission is publishing new ranges of comparability in these categories. Today's publication of the new ranges for refrigerators, refrigerator-freezers, and freezers also means that, after May 1, 2006, manufacturers of these products must calculate the operating cost figures at the bottom of labels for the products using the 2005 cost for electricity (9.06 cents per kilowatt-hour) (see 70 FR 32484 (June 3, 2005)).

³ The Commission's analysis for refrigerators, refrigerator-freezers, and freezers excluded models with energy consumption figures that do not meet the current DOE energy conservation standards. See 62 FR 23102 (April 28, 1997).

Analysis of the clothes washer submissions indicate that there has been a significant change in the range for compact clothes washers but no significant change for standard clothes washers. Manufacturers should continue to use the existing range and energy cost information found in the Rule for standard clothes washers. The Commission, however, is amending the required range of comparability for compact clothes washers to reflect the new data.⁴ The Commission is not changing the energy cost figures (i.e., the average national prices for electricity and natural gas) that manufacturers must use to calculate estimated operating costs on compact clothes washer labels. Manufacturers should continue to use the 2004 electricity and natural gas cost figures as currently required by the Rule for both compact and standard models. If standard and compact washer labels employed different energy cost figures for calculating operating costs, models with the identical energy consumption would bear labels disclosing different annual operating costs. This could cause consumer confusion and make it difficult for consumers to compare the operating costs of these washer types.

⁴ Compact clothes washers account for a small fraction of the total washer models on the market.

III. Definition of Medium Base Compact Fluorescent Lamp

The Energy Policy Act of 2005 (EPACT of 2005) (Pub. L. 109-58) amended the definition of “medium base compact fluorescent lamp” in part B of title III of the Energy Policy and Conservation Act (EPCA) (42 U.S.C. 6291-6309). On October 18, 2005 (70 FR 60407), DOE issued technical amendments to change, among other things, the regulatory definition of “medium base compact fluorescent lamp” to make it consistent with the amended Act. The Commission is changing the definition of this term in its Rule so that it is consistent with DOE's rules and the new statutory definition.

IV. Correction to Prototype Label 5 and Sample Label 9

The Commission is issuing a correction to Prototype Label 5 and Sample Label 9 in the Rule. The word “cooling,” instead of “heating,” was incorrectly placed in the label's depiction of the model's Heating Seasonal Performance Factor. In addition, the description of the Seasonal Energy Efficiency Ratio (SEER) for heat pumps has been changed to remove an erroneous reference to central air conditioners.

V. Administrative Procedure Act

The amendments published in this notice involve routine, technical and minor, or conforming changes to the labeling requirements in the Rule. These technical amendments merely provide a routine change to the range and cost information required on EnergyGuide labels and fact sheets and technical corrections to the Rule. Accordingly, the Commission finds for good cause that public comment for these technical, procedural amendments is impractical and unnecessary (5 U.S.C. 553(b)(A)(B) and (d)).

VI. Regulatory Flexibility Act

The provisions of the Regulatory Flexibility Act relating to a Regulatory Flexibility Act analysis (5 U.S.C. 603-604) are not applicable to this proceeding because the amendments do not impose any new obligations on entities regulated by the Appliance Labeling Rule. These technical amendments merely provide a routine change to the range information required on EnergyGuide labels and make technical corrections to the Rule. Thus, the amendments will not have a “significant economic impact on a substantial number of small entities.” 5 U.S.C. 605. The Commission has concluded, therefore, that a regulatory flexibility analysis is not necessary, and certifies, under Section 605 of the Regulatory Flexibility Act (5 U.S.C. 605(b)), that the amendments announced today will not have a significant economic impact on a substantial number of small entities.

VII. Paperwork Reduction Act

In a June 13, 1988 notice (53 FR 22106), the Commission stated that the Rule contains disclosure and reporting requirements that constitute “information collection requirements” as defined by 5 CFR 1320.7(c), the regulation that implements the Paperwork Reduction Act.⁵ The Commission noted that the Rule had been reviewed and approved in 1984 by the Office of Management and Budget (“OMB”) and assigned OMB Control No. 3084-0068. OMB has reviewed the Rule and extended its approval for its recordkeeping and reporting requirements until December 31, 2007. The amendments now being adopted do not change the substance or frequency of the recordkeeping, disclosure, or reporting requirements and, therefore, do not require further OMB clearance.

⁵ 44 U.S.C. 3501-3520.

VIII. Amendments

List of Subjects in 16 CFR Part 305

Advertising, Energy conservation, Household appliances, Labeling, Reporting and recordkeeping requirements.

For the reasons stated in this document, the Federal Trade Commission is amending 16 CFR part 305 as set forth below:

PART 305—RULE CONCERNING DISCLOSURES REGARDING ENERGY CONSUMPTION AND WATER USE OF CERTAIN HOME APPLIANCES AND OTHER PRODUCTS REQUIRED UNDER THE ENERGY POLICY AND CONSERVATION ACT (“APPLIANCE LABELING RULE”)

1. The authority citation for part 305 continues to read as follows:

Authority: 42 U.S.C. 6294.

2. In § 305.3, paragraph (l) is revised to read as follows:

§ 305.3 Description of covered products.

* * * * *

(l) Medium base compact fluorescent lamp means an integrally ballasted fluorescent lamp with a medium screw base, a rated input voltage range of 115 to 130 volts and which is designed as direct replacement for a general service incandescent lamp; however, the term does not include—

(1) Any lamp that is—

(i) Specifically designed to be used for special purpose applications; and

(ii) Unlikely to be used in general purpose applications, such as the applications described in the definition of “General Service Incandescent Lamp” in this section; or

(2) Any lamp not described in the definition of “General Service Incandescent Lamp” in this section that is excluded by the Department of Energy, by rule, because the lamp is—

(i) Designed for special applications; and

(ii) Unlikely to be used in general purpose applications.

* * * * *

3. Appendix A1 to part 305 is revised to read as follows:

Appendix A1 to Part 305—Refrigerators With Automatic Defrost

Range Information
Manufacturer's rated total refrigerated volume (in cubic feet) | Range of estimated annual energy consumption (kWh/yr): Low | Range of estimated annual energy consumption (kWh/yr): High
Less than 2.5 | 327 | 327
2.5 to 4.4 | 307 | 385
4.5 to 6.4 | 305 | 511
6.5 to 8.4 | (*) | (*)
8.5 to 10.4 | 348 | 348
10.5 to 12.4 | (*) | (*)
12.5 to 14.4 | 311 | 311
14.5 to 16.4 | 428 | 428
16.5 and over | 372 | 438
(*) No data submitted for units meeting the Department of Energy's Energy Conservation Standards effective July 1, 2001.

4. Appendix A2 to part 305 is revised to read as follows:

Appendix A2 to Part 305—Refrigerators and Refrigerator-Freezers With Manual Defrost

Range Information
Manufacturer's rated total refrigerated volume (in cubic feet) | Range of estimated annual energy consumption (kWh/yr): Low | Range of estimated annual energy consumption (kWh/yr): High
Less than 2.5 | 253 | 318
2.5 to 4.4 | 260 | 343
4.5 to 6.4 | 268 | 357
6.5 to 8.4 | 277 | 277
8.5 to 10.4 | 230 | 336
10.5 to 12.4 | 288 | 345
12.5 to 14.4 | (*) | (*)
14.5 to 16.4 | (*) | (*)
16.5 to 18.4 | 335 | 404
18.5 to 20.4 | (*) | (*)
20.5 to 22.4 | (*) | (*)
22.5 to 24.4 | 449 | 449
24.5 to 26.4 | (*) | (*)
26.5 to 28.4 | (*) | (*)
28.5 and over | (*) | (*)
(*) No data submitted for units meeting the Department of Energy's Energy Conservation Standards effective July 1, 2001.

5. Appendix A3 to part 305 is revised to read as follows:

Appendix A3 to Part 305—Refrigerator-Freezers With Partial Automatic Defrost

Range Information
Manufacturer's rated total refrigerated volume (in cubic feet) | Range of estimated annual energy consumption (kWh/yr): Low | Range of estimated annual energy consumption (kWh/yr): High
Less than 10.5 | 254 | 434
10.5 to 12.4 | 314 | 314
12.5 to 14.4 | (*) | (*)
14.5 to 16.4 | (*) | (*)
16.5 to 18.4 | (*) | (*)
18.5 to 20.4 | (*) | (*)
20.5 to 22.4 | (*) | (*)
22.5 to 24.4 | (*) | (*)
24.5 to 26.4 | (*) | (*)
26.5 to 28.4 | (*) | (*)
28.5 and over | (*) | (*)
(*) No data submitted for units meeting the Department of Energy's Energy Conservation Standards effective July 1, 2001.

6. Appendix A4 to part 305 is revised to read as follows:

Appendix A4 to Part 305—Refrigerator-Freezers With Automatic Defrost With Top-Mounted Freezer Without Through-the-Door Ice Service

Range Information
Manufacturer's rated total refrigerated volume (in cubic feet) | Range of estimated annual energy consumption (kWh/yr): Low | Range of estimated annual energy consumption (kWh/yr): High
Less than 10.5 | 325 | 460
10.5 to 12.4 | 369 | 408
12.5 to 14.4 | 373 | 440
14.5 to 16.4 | 372 | 455
16.5 to 18.4 | 391 | 484
18.5 to 20.4 | 387 | 489
20.5 to 22.4 | 405 | 527
22.5 to 24.4 | 450 | 499
24.5 to 26.4 | 445 | 520
26.5 to 28.4 | (*) | (*)
28.5 and over | (*) | (*)
(*) No data submitted for units meeting the Department of Energy's Energy Conservation Standards effective July 1, 2001.

7. Appendix A5 to part 305 is revised to read as follows:

Appendix A5 to Part 305—Refrigerator-Freezers With Automatic Defrost With Side-Mounted Freezer Without Through-the-Door Ice Service

Range Information
Manufacturer's rated total refrigerated volume (in cubic feet) | Range of estimated annual energy consumption (kWh/yr): Low | Range of estimated annual energy consumption (kWh/yr): High
Less than 10.5 | 530 | 530
10.5 to 12.4 | (*) | (*)
12.5 to 14.4 | (*) | (*)
14.5 to 16.4 | (*) | (*)
16.5 to 18.4 | (*) | (*)
18.5 to 20.4 | 610 | 624
20.5 to 22.4 | 510 | 640
22.5 to 24.4 | 643 | 653
24.5 to 26.4 | 561 | 661
26.5 to 28.4 | 668 | 668
28.5 and over | 585 | 689
(*) No data submitted for units meeting the Department of Energy's Energy Conservation Standards effective July 1, 2001.

8. Appendix A6 to part 305 is revised to read as follows:

Appendix A6 to Part 305—Refrigerator-Freezers With Automatic Defrost With Bottom-Mounted Freezer Without Through-the-Door Ice Service

Range Information
Manufacturer's rated total refrigerated volume (in cubic feet) | Range of estimated annual energy consumption (kWh/yr): Low | Range of estimated annual energy consumption (kWh/yr): High
Less than 10.5 | 430 | 451
10.5 to 12.4 | 439 | 500
12.5 to 14.4 | (*) | (*)
14.5 to 16.4 | 453 | 544
16.5 to 18.4 | 465 | 548
18.5 to 20.4 | 476 | 573
20.5 to 22.4 | 483 | 569
22.5 to 24.4 | 440 | 520
24.5 to 26.4 | 465 | 594
26.5 to 28.4 | 475 | 530
28.5 and over | 499 | 499
(*) No data submitted for units meeting the Department of Energy's Energy Conservation Standards effective July 1, 2001.

9. Appendix A7 to part 305 is revised to read as follows:

Appendix A7 to Part 305—Refrigerator-Freezers With Automatic Defrost With Top-Mounted Freezer Without Through-the-Door Ice Service

Range Information
Manufacturer's rated total refrigerated volume (in cubic feet) | Range of estimated annual energy consumption (kWh/yr): Low | Range of estimated annual energy consumption (kWh/yr): High
Less than 10.5 | (*) | (*)
10.5 to 12.4 | (*) | (*)
12.5 to 14.4 | (*) | (*)
14.5 to 16.4 | (*) | (*)
16.5 to 18.4 | (*) | (*)
18.5 to 20.4 | (*) | (*)
20.5 to 22.4 | (*) | (*)
22.5 to 24.4 | (*) | (*)
24.5 to 26.4 | (*) | (*)
26.5 to 28.4 | (*) | (*)
28.5 and over | (*) | (*)
(*) No data submitted for units meeting the Department of Energy's Energy Conservation Standards effective July 1, 2001.

10. Appendix A8 to part 305 is revised to read as follows:

Appendix A8 to Part 305—Refrigerator-Freezers With Automatic Defrost With Side-Mounted Freezer With Through-the-Door Ice Service

Range Information
Manufacturer's rated total refrigerated volume (in cubic feet) | Range of estimated annual energy consumption (kWh/yr): Low | Range of estimated annual energy consumption (kWh/yr): High
Less than 10.5 | (*) | (*)
10.5 to 12.4 | (*) | (*)
12.5 to 14.4 | (*) | (*)
14.5 to 16.4 | (*) | (*)
16.5 to 18.4 | (*) | (*)
18.5 to 20.4 | 553 | 651
20.5 to 22.4 | 432 | 671
22.5 to 24.4 | 539 | 698
24.5 to 26.4 | 578 | 732
26.5 to 28.4 | 615 | 751
28.5 and over | 565 | 790
(*) No data submitted for units meeting the Department of Energy's Energy Conservation Standards effective July 1, 2001.

Cost Information for Appendices A1 Through A8

When the ranges of comparability in Appendices A1 through A8 are used on EnergyGuide labels for refrigerators and refrigerator-freezers, the estimated annual operating cost disclosure appearing in the box at the bottom of the labels must be derived using the 2005 Representative Average Unit Cost for electricity (9.06¢ per kilowatt-hour), and the text below the box must identify the cost as such.

11. Appendix B1 to part 305 is revised to read as follows:

Appendix B1 to Part 305—Upright Freezers With Manual Defrost

Range Information
Manufacturer's rated total refrigerated volume (in cubic feet) | Range of estimated annual energy consumption (kWh/yr): Low | Range of estimated annual energy consumption (kWh/yr): High
Less than 5.5 | 272 | 328
5.5 to 7.4 | 354 | 354
7.5 to 9.4 | 292 | 341
9.5 to 11.4 | 353 | 392
11.5 to 13.4 | 354 | 410
13.5 to 15.4 | 409 | 341
15.5 to 17.4 | 430 | 477
17.5 to 19.4 | 392 | 392
19.5 to 21.4 | 512 | 512
21.5 to 23.4 | (*) | (*)
23.5 to 25.4 | 580 | 580
25.5 to 27.4 | (*) | (*)
27.5 to 29.4 | 477 | 477
29.5 and over | 512 | 512
(*) No data submitted for units meeting the Department of Energy's Energy Conservation Standards effective July 1, 2001.

12. Appendix B2 to Part 305 is revised to read as follows:

Appendix B2 to Part 305—Upright Freezers With Automatic Defrost

Range Information
Manufacturer's rated total refrigerated volume (in cubic feet) | Range of estimated annual energy consumption (kWh/yr): Low | Range of estimated annual energy consumption (kWh/yr): High
Less than 5.5 | 482 | 491
5.5 to 7.4 | (*) | (*)
7.5 to 9.4 | (*) | (*)
9.5 to 11.4 | (*) | (*)
11.5 to 13.4 | 575 | 575
13.5 to 15.4 | 582 | 655
15.5 to 17.4 | 601 | 683
17.5 to 19.4 | 635 | 742
19.5 to 21.4 | 671 | 770
21.5 to 23.4 | 796 | 796
23.5 to 25.4 | 855 | 855
25.5 to 27.4 | (*) | (*)
27.5 to 29.4 | 683 | 683
29.5 and over | (*) | (*)
(*) No data submitted for units meeting the Department of Energy's Energy Conservation Standards effective July 1, 2001.

13. Appendix B3 to part 305 is revised to read as follows:

Appendix B3 to Part 305—Chest Freezers and All Other Freezers

Range Information
Manufacturer's rated total refrigerated volume (in cubic feet | Range of estimated annual energy consumption (kWh/yr): Low | Range of estimated annual energy consumption (kWh/yr): High
Less than 5.5 | 185 | 357
5.5 to 7.4 | 215 | 381
7.5 to 9.4 | 251 | 251
9.5 to 11.4 | 248 | 312
11.5 to 13.4 | 276 | 350
13.5 to 15.4 | 354 | 394
15.5 to 17.4 | 282 | 360
17.5 to 19.4 | (*) | (*)
19.5 to 21.4 | 350 | 415
21.5 to 23.4 | 460 | 512
23.5 to 25.4 | 570 | 570
25.5 to 27.4 | 354 | 394
27.5 to 29.4 | (*) | (*)
29.5 and over | 512 | 512
(*) No data submitted for units meeting the Department of Energy's Energy Conservation Standards effective July 1, 2001.

Cost Information for Appendices B1 Through B3

When the ranges of comparability in Appendices B1 through B3 are used on EnergyGuide labels for freezers, the estimated annual operating cost disclosure appearing in the box at the bottom of the labels must be derived using the 2005 Representative Average Unit Cost for electricity (9.06¢ per kilowatt-hour), and the text below the box must identify the cost as such.

14. Appendix F2 to Part 305 is revised to read as follows:

Appendix F2 to Part 305—Compact Clothes Washers

Range Information
[“Compact” includes all household clothes washers with a tub capacity of less than 1.6 cu. ft.]
Capacity | Range of estimated annual energy consumption (kWh/yr): Low | Range of estimated annual energy consumption (kWh/yr): High
Compact | 125 | 462

Cost Information

When the above range of comparability is used on EnergyGuide labels for compact clothes washers, the estimated annual operating cost disclosure appearing in the box at the bottom of the labels must be derived using the 2004 Representative Average Unit Costs for electricity (8.60¢ per kiloWatt-hour) and natural gas (91.0¢ per therm), and the text below the box must identify the costs as such.

15. Prototype Label 1 in Appendix L to part 305 is revised to read as follows:

* * * * *

* * * * *

16. Prototype Label 5 in Appendix L to part 305 is revised to read as follows:

* * * * *

* * * * *

17. Sample Label 1 in Appendix L to part 305 is revised to read as follows:

* * * * *

* * * * *

18. Sample Label 2 in Appendix L to part 305 is revised to read as follows:

* * * * *

* * * * *

19. Sample Label 9 in Appendix L to part 305 is revised to read as follows:

* * * * *

* * * * *

By direction of the Commission.
Donald S. Clark,
Secretary.

[FR Doc. 06-882 Filed 1-30-06; 8:45 am]

BILLING CODE 6750-01-C